ENVIRONMENTAL PROTECTION AGENCY

40 CFR Part 52

[EPA-R01-OAR-2015-0654; FRL-9961-01-Region 1]

Air Plan Approval; CT; Decommissioning of Stage II Vapor Recovery Systems

AGENCY: Environmental Protection Agency.

ACTION: Proposed rule.

SUMMARY: The Environmental Protection Agency (EPA) is proposing to approve a State Implementation Plan (SIP) revision submitted by the State of Connecticut Department of Energy and Environmental Protection. This revision includes regulatory amendments that require gasoline dispensing facilities (GDFs) to decommission their Stage II vapor recovery systems on or before July 1, 2015, and a demonstration that such removal is consistent with the Clean Air Act and EPA guidance. This revision also includes regulatory amendments that strengthen Connecticut's requirements for Stage I vapor recovery systems at GDFs. The intended effect of this action is to propose approval of Connecticut's revised vapor recovery regulations. This action is being taken under the Clean Air Act.

DATES: Written comments must be received on or before May 10, 2017.

ADDRESSES: Submit your comments, identified by Docket ID No. EPA-R01-OAR-2015-0654 at http://www.regulations.gov, or via email to arnold.anne@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the Web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Ariel Garcia, Air Quality Planning Unit, U.S. Environmental Protection Agency, EPA Region 1 Regional Office, 5 Post Office Square, Suite 100 (mail code: OEP05-2), Boston, MA 02109-3912, telephone number (617) 918-1660, fax number (617) 918-0660, email garcia.ariel@epa.gov.

SUPPLEMENTARY INFORMATION: Throughout this document whenever “we,” “us,” or “our” is used, we mean EPA.

Organization of this document. The following outline is provided to aid in locating information in this preamble.

I. Background and Purpose

II. Summary of Connecticut's SIP Revision

III. EPA's Evaluation of Connecticut's SIP Revision

IV. Proposed Action

V. Incorporation by Reference

VI. Statutory and Executive Order Reviews

I. Background and Purpose

On September 14, 2015, the Connecticut Department of Energy and Environmental Protection submitted a revision to its State Implementation Plan (SIP). The SIP revision consists of Connecticut's newly adopted section 22a-174-30a, Stage I Vapor Recovery, of the Regulations of Connecticut State Agencies (RCSA) as well as the following revised RCSA sections:

• 22a-174-3a, Permit to Construct and Operate Stationary Sources, specifically 22a-174-3a(a);

• 22a-174-20, Control of Organic Compound Emissions, specifically 22a-174-20(a), 22a-174-20(b)(1) through (b)(16), and 22a-174-20(ee); and

• 22a-174-32, Reasonably Available Control Technology (RACT) for Volatile Organic Compounds, specifically 22a-174-32(b).

In addition, this SIP revision also includes Public Act No. 13-120, An Act Concerning Gasoline Vapor Recovery Systems. Connecticut Public Act No. 13-120 revises section 22a-174e of the Connecticut General Statutes (CGS). The regulations and statute require the decommissioning of Stage II vapor recovery systems and strengthen Stage I vapor recovery requirements. The SIP submittal also includes a demonstration that removal of Stage II vapor recovery systems in Connecticut is consistent with the Clean Air Act and EPA guidance. Finally, the SIP revision includes the withdrawal of RCSA section 22a-174-30, Dispensing of Gasoline/Stage I and Stage II Vapor Recovery, from the Connecticut SIP.

Connecticut subsequently modified the September 14, 2015 SIP revision via a letter dated January 20, 2017 wherein Connecticut withdrew RCSA 22a-174-3a(a) from consideration as part of this SIP revision.

Stage II and onboard refueling vapor recovery (ORVR) systems are two types of emission control systems that capture fuel vapors from vehicle gas tanks during refueling. Stage II vapor recovery systems are installed at gasoline dispensing facilities and capture the refueling fuel vapors at the gasoline pump. The system carries the vapors back to the underground storage tank at the GDF to prevent the vapors from escaping to the atmosphere. ORVR systems are carbon canisters installed directly on automobiles to capture the fuel vapors evacuated from the gasoline tank before they reach the nozzle. The fuel vapors captured in the carbon canisters are then combusted in the engine when the automobile is in operation.

Stage II vapor recovery systems and vehicle ORVR systems were initially both required by the 1990 Amendments to the Clean Air Act (CAA). Section 182(b)(3) of the CAA requires moderate and above ozone nonattainment areas to implement Stage II vapor recovery programs. Also, under CAA section 184(b)(2), states in the Ozone Transport Region (OTR) are required to implement Stage II or comparable measures. CAA section 202(a)(6) required EPA to promulgate regulations for ORVR for light-duty vehicles (passenger cars). EPA adopted these requirements in 1994, at which point moderate ozone nonattainment areas were no longer subject to the CAA section 182(b)(3) Stage II vapor recovery requirements. ORVR equipment has been phased in for new passenger vehicles beginning with model year 1998, and starting with model year 2001 for light-duty trucks and most heavy-duty gasoline powered vehicles. ORVR equipment has been installed on nearly all new gasoline-powered light-duty vehicles, light-duty trucks, and heavy-duty vehicles since 2006.

During the phase-in of ORVR controls, Stage II has provided volatile organic compound (VOC) reductions in ozone nonattainment areas and certain attainment areas of the OTR. Congress recognized that ORVR systems and Stage II vapor recovery systems would eventually become largely redundant technologies, and provided authority to EPA to allow states to remove Stage II vapor recovery programs from their SIPs after EPA finds that ORVR is in “widespread use.” Effective May 16, 2012, the date the final rule was published in the Federal Register (see 77 FR 28772), EPA determined that ORVR systems are in widespread use nationwide for control of gasoline emissions during refueling of vehicles at GDFs. As of the end of 2016, EPA estimates that more than 88 percent of gasoline refueling nationwide occurs with ORVR-equipped vehicles.¹ Thus, Stage II vapor recovery programs have become largely redundant control systems and Stage II vapor recovery systems achieve an ever declining emissions benefit as more ORVR-equipped vehicles continue to enter the on-road motor vehicle fleet.² In the May 16, 2012 rulemaking, EPA also exercised its authority under CAA section 202(a)(6) to waive certain federal statutory requirements for Stage II vapor recovery systems at GDFs. This decision exempts all new ozone nonattainment areas classified serious or above from the requirement to adopt Stage II vapor recovery programs. Finally, EPA's May 16, 2012 rulemaking also noted that any state currently implementing Stage II vapor recovery programs may submit SIP revisions that would allow for the phase-out of Stage II vapor recovery systems.

¹ See Appendix Table A-1 of EPA's Guidance Document, “Guidance on Removing Stage II Gasoline Vapor Control Programs from State Implementation Plans and Assessing Comparable Measures” (EPA-457/B-12-001; August 7, 2012).

² In areas where certain types of vacuum-assist Stage II vapor recovery systems are used, the differences in operational design characteristics between ORVR and some configurations of these Stage II vapor recovery systems result in the reduction of overall control system efficiency compared to what could have been achieved relative to the individual control efficiencies of either ORVR or Stage II emissions from the vehicle fuel tank.

Stage I vapor recovery systems are systems that capture vapors displaced from storage tanks at GDFs during gasoline tank truck deliveries. When gasoline is delivered into an aboveground or underground storage tank, vapors that were taking up space in the storage tank are displaced by the gasoline entering the storage tank. The Stage I vapor recovery systems route these displaced vapors into the delivery truck's tank. Some vapors are vented when the storage tank exceeds a specified pressure threshold, however the Stage I vapor recovery systems greatly reduce the possibility of these displaced vapors being released into the atmosphere.

Stage I vapor recovery systems have been in place since the 1970s. EPA has issued the following guidance regarding Stage I systems: “Design Criteria for Stage I Vapor Control Systems—Gasoline Service Stations” (November 1975, EPA Online Publication 450R75102), which is regarded as the control techniques guideline (CTG) for the control of VOC emissions from this source category; and the EPA document “Model Volatile Organic Compound Rules for Reasonably Available Control Technology” (Staff Working Draft, June 1992) contains a model Stage I regulation.

In more recent years, the California Air Resources Board (CARB) has required Stage I vapor recovery systems capable of achieving vapor control efficiencies higher than those achieved by traditional systems. These systems are commonly referred to as Enhanced Vapor Recovery (EVR) systems. One of the essential components of these CARB Stage I EVR systems are CARB EVR Pressure/Vacuum (P/V) vent valves. These valves are manufactured of better quality materials and construction, when compared to non-CARB EVR P/V vent valves, and are thus expected to reduce P/V vent valve failures and decrease emissions.

II. Summary of Connecticut's SIP Revision

The Connecticut Stage II vapor recovery program requirements, codified in RCSA section 22a-174-30, Dispensing of Gasoline/Stage I and Stage II Vapor Recovery, were initially approved into the Connecticut SIP on December 17, 1993 (58 FR 65930). Connecticut's rule required GDFs throughout the state to install Stage II vapor recovery systems. On August 31, 2006 (71 FR 51761), EPA approved a revised version of RCSA section 22a-174-30, into the Connecticut SIP, which added new requirements for GDFs to install P/V vent valves.

On September 14, 2015, Connecticut submitted a SIP revision consisting of its request to withdraw RCSA section 22a-174-30 from the SIP, and add RCSA section 22a-174-30a to the Connecticut SIP. Connecticut's request to withdraw RCSA section 22a-174-30 from the SIP stems from the State's repeal of this regulation as of July 1, 2015. This SIP revision also includes revisions to RCSA sections 22a-174-20(a), 22a-174-20(b)(1) through (b)(16), 22a-174-20(ee), and 22-174-32(b), as well as the addition of Connecticut Public Act No. 13-120.

This SIP revision includes regulatory amendments that prohibit all GDFs from installing Stage II vapor recovery systems as of June 18, 2013, the effective date of Public Act No. 13-120 (i.e. the effective date of the revised CGS section 22a-174e). The SIP revision also includes legislative and regulatory amendments, via Public Act No. 13-120, that require all GDFs equipped with Stage II vapor recovery systems to decommission their Stage II vapor recovery systems on or before July 1, 2015. Connecticut's regulations were then revised, effective July 8, 2015, to remove the requirement for the installation and operation of Stage II vapor recovery systems, while retaining the Stage I vapor recovery requirements for GDFs, so that the regulations conform to the requirements of Public Act No. 13-120. In addition, Connecticut Public Act No. 13-120, as well as RCSA section 22a-174-30a, increase the Stage I vapor control equipment testing frequency at GDFs from a three-year interval to annual testing. RCSA section 22a-174-30a also requires GDFs to install a CARB-approved EVR pressure/vacuum (P/V) vent valve when any existing P/V vent valve is replaced. These latter changes to Connecticut's Stage I vapor control regulations strengthened the regulatory requirements.

Connecticut's RCSA subsections 22a-174-20(ee)(2) and 22a-174-32(b)(3)(E)(ii) were revised to appropriately cite the newly adopted RCSA section 22a-174-30a where reference was previously made to, the now repealed, RCSA section 22a-174-30. Also, Connecticut's RCSA subsection 22a-174-20(a)(7) was revised to clarify the requirements for the external surfaces of aboveground storage tanks containing VOCs.

The Stage I vapor recovery requirements for GDFs contained in RCSA subsections 22a-174-20(b)(6) through (b)(9), as well as those contained in, the now repealed, RCSA section 22a-174-30, were consolidated and moved into the new RCSA section 22a-174-30a. Connecticut's RCSA subsections 22a-174-20(b)(10) through (b)(16), were revised to clarify and strengthen the Connecticut Stage I vapor recovery program requirements for fuel tank trucks.

Furthermore, the revised Stage I regulations require any GDF with a monthly throughput of 10,000 gallons or more on or after July 1, 2015 to maintain Stage I systems that meet the same management practices required by EPA's National Emissions Standards for Hazardous Air Pollutants (NESHAP) for Source Category: Gasoline Dispensing Facilities, 40 CFR part 63, subpart CCCCCC.

Connecticut's September 14, 2015 SIP revision also includes a narrative demonstration supporting the discontinuation of the Connecticut Stage II vapor recovery program. This demonstration consists of an analysis that the Stage II vapor recovery controls provide only de minimis emission reductions due to the prevalence of ORVR-equipped vehicles in Connecticut in 2013. In fact, Connecticut's September 14, 2015 submission explained that any VOC emissions increase that may have occurred in 2013 or 2014 were too small to interfere with attainment and reasonable further progress towards attainment of the ozone NAAQS. Connecticut's submission also stated, and demonstrated, that continuing a Stage II vapor recovery program from 2015 and beyond would have resulted in an increase in refueling emissions due to excess emissions from the incompatibility of ORVR and certain Stage II systems.

III. EPA's Evaluation of Connecticut's SIP Revision

As noted above, Connecticut's September 14, 2015 SIP revision includes the decommissioning of Stage II vapor recovery systems in the State. EPA has reviewed Connecticut's repeal of RCSA section 22a-174-30, Public Act No. 13-120, and the accompanying SIP narrative, and has concluded that Connecticut's September 14, 2015 SIP revision is consistent with EPA's widespread use rule (77 FR 28772; May 16, 2012) and EPA's “Guidance on Removing Stage II Gasoline Vapor Control Programs from State Implementation Plans and Assessing Comparable Measures” (EPA-457/B-12-001; August 7, 2012), hereafter referred to as EPA's Guidance Document.

Connecticut's September 14, 2015 SIP revision includes a CAA section 184(b)(2) “comparable measures” demonstration and a CAA section 110(l) anti-back sliding demonstration based on equations in EPA's Guidance Document. According to these calculations, the potential loss of refueling emission reductions from removing Stage II vapor recovery systems in 2013 is 4.3 percent, thus meeting the 10 percent de minimis recommendation in EPA's Guidance Document. The fact that the Connecticut demonstration is based on 2013, while the regulation does not require decommissioning of all Stage II systems until 2015, represents a conservative estimate as the potential loss of emission reductions decreases over time as more and more ORVR systems are phased-in. Furthermore, Connecticut estimates that retaining Stage II vapor recovery systems beyond 2015 would have resulted in an increase in emissions ³ due to the excess emissions generated by the refueling of ORVR-equipped vehicles at the incompatible Stage II vapor recovery systems found throughout Connecticut.

³ See “Table D-3: 2015 Stage II calculations” in Appendix D of Attachment A of Connecticut's September 14, 2015 SIP submittal.

In addition, Connecticut's September 14, 2015 SIP revision also includes calculations illustrating that the overall emissions effect of removing the Stage II vapor recovery program would be an increase of about 200 tons of VOC in 2013. EPA's 2011 National Emissions Inventory database, Version 2, illustrates that Connecticut's statewide anthropogenic VOC emissions were about 79,937 tons (see https://www.epa.gov/air-emissions-inventories/2011-national-emissions-inventory-nei-data). Therefore, the VOC emissions increase of 200 tons per year calculated by Connecticut is only about 0.3 percent of the total anthropogenic VOC emissions in Connecticut. Also, as noted above, these foregone emissions reductions in the near term continue to diminish rapidly over time as ORVR phase-in continues. Thus, EPA believes that the resulting temporary increase in VOC emissions will not interfere with attainment or maintenance of the ozone National Ambient Air Quality Standards (NAAQS).

Furthermore, Appendix Table A-1 of EPA's Guidance Document illustrates that by the end of 2012 about 71% of the vehicles in the national motor vehicle fleet would have been equipped with ORVR.⁴ The number of ORVR-equipped vehicles in Connecticut at that time was likely even higher, however, due to Connecticut having a more accelerated motor vehicle fleet turnover when compared to the national motor vehicle fleet.⁵ Appendix Table A-1 of EPA's Guidance Document also illustrates that by the end of 2012, about 78% of gasoline dispensed nationally would have been to ORVR-equipped vehicles, which is also likely to have been higher in Connecticut due to a newer motor vehicle fleet.⁶ At that point in time, since a vast majority of Connecticut's vehicles being refueled at GDFs would have been equipped with ORVR systems, the ORVR systems would have been controlling the VOC emissions, making Stage II vapor recovery systems a redundant, and potentially incompatible, emissions control technology in Connecticut. Therefore, removing the Stage II systems is not expected to result in a significant emissions increase, and is actually expected to avoid emissions increases that would have resulted from the incompatibility of some Stage II systems with ORVR controls.

⁴ Although Connecticut requires that all GDFs decommission their Stage II vapor recovery systems on or before July 1, 2015, GDFs could have begun decommissioning Stage II systems as of June 18, 2013 (the effective date of Public Act No. 13-120). An analysis of the removal of Stage II controls by the end of 2012 is a conservative calculation of the emission impacts of decommissioning Stage II vapor recovery systems, due to future years having a greater percentage of ORVR-equipped vehicles in the motor vehicle fleet.

⁵ Final Report Analysis of Future Options For Connecticut's Gasoline Dispensing Facility Vapor Control Program, de la Torre-Klausmeier Consulting, Inc., June 4, 2012, includes an analysis conducted using EPA's Motor Vehicle Emissions Simulator (MOVES) model which illustrates that by the end of 2012, the fraction of gasoline vehicles in Connecticut equipped with ORVR was about 75%. This is a slightly more accelerated fleet turn-over estimate than EPA's end of 2012 calendar year national estimate of 71.4% ORVR penetration in the national gasoline fueled motor vehicle fleet.

⁶ Ibid. In 2012, 85% of gasoline dispensed in Connecticut was dispensed to ORVR-equipped vehicles. This is much more accelerated than EPA's end of 2012 calendar year national estimate of 77.7% of fuel dispensed to ORVR-equipped vehicles.

With respect to Stage I vapor recovery requirements, Connecticut's adopted regulation RCSA section 22a-174-30a is more stringent than the previously approved version of the rule,⁷ thus meeting the CAA section 110(l) anti-back sliding requirements. As noted above, the revised rule requires upgrades of P/V vent valves to a CARB-approved EVR P/V vent valve for all P/V vent valves being replaced after July 1, 2015. Connecticut's adopted RCSA section 22a-174-30a also meets the CAA section 110(l) requirements because of the increased frequency of Stage I vapor control equipment testing at GDFs.

⁷ EPA's most recent approval of RCSA section 22a-174-30 was on August 31, 2006 (see 71 FR 51761). As noted in this proposed rulemaking, Connecticut's Stage I vapor recovery requirements are now found in the adopted RCSA section 22a-174-30a, effective July 8, 2015.

EPA has reviewed Connecticut's newly adopted RCSA section 22a-174-30a, “Stage I Vapor Recovery,” and we have determined that it adequately incorporates the necessary Stage I Vapor Recovery program requirements for GDFs that were previously contained in the, now repealed, RCSA section 22a-174-30 (see 71 FR 51761; August 31, 2006), as well as those Stage I vapor recovery requirements for GDFs that were previously contained within RCSA subsections 22a-174-20(b)(6) through (b)(9).

Connecticut's September 14, 2015 SIP submittal also includes revisions to section 22a-174-20. EPA initially approved Connecticut's RCSA section 22a-174-20 on May 31, 1972 (see 37 FR 23085) and most recently approved revisions to RCSA section 22a-174-20 on November 3, 2015 (see 80 FR 67642). EPA has reviewed Connecticut's revised RCSA sections 22a-174-20(a), 22a-174-20(b)(1) through 22a-174-20(b)(16), and 22a-174-20(ee) and has found that they are at least as stringent as the previously SIP-approved version of the regulation. The following Connecticut RCSA sections are the most significant changes from what was previously approved into the Connecticut SIP:

1. Subsection 22a-174-20(a)(7) was revised to clarify the requirements for the external surfaces of aboveground storage tanks containing VOCs, thus strengthening the subsection previously approved into the Connecticut SIP;

2. Subsections 22a-174-20(b)(6) through (b)(9), related to Stage I vapor recovery program requirements for gasoline dispensing facilities, were removed from the amended 22a-174-20, since those provisions were moved into the new RCSA section 22a-174-30a;

3. Subsections 22a-174-20(b)(10) through 22a-174-20(b)(16) were revised to clarify and strengthen the Connecticut Stage I vapor recovery program requirements for fuel tank trucks; ⁸ and

⁸ The revisions of subsections 22a-174-20(b)(10) through (b)(16) clarify and strengthen the Connecticut Stage I vapor recovery program requirements for fuel tank trucks by adding requirements such as: Requiring all vapor return hoses, couplers and adapters used in gasoline delivery to be vapor-tight; requiring fuel tank trucks to dispense gasoline to a stationary storage tank having an approved control system in a manner that does not interfere with the collection efficiency of the control system; and requiring fuel tank trucks to not transfer or allow the transfer of gasoline from a delivery vehicle to a dispensing facility stationary storage tank if there are leaks in pressure/vacuum relief valves or hatch covers of the delivery vehicle, in the truck tanks or in associated vapor and liquid lines.

4. Subsection 22a-174-20(ee)(2) was revised to appropriately cite the newly adopted RCSA section 22a-174-30a where reference was previously made to, the now repealed, RCSA section 22a-174-30.

The above revisions are all reasonable and meet the Clean Air Act's section 110(l) anti-back sliding requirements because they are more stringent than the versions of the regulations previously approved into the Connecticut SIP. Therefore, EPA is proposing to approve the revised RCSA section 22a-174-20(a), the revised RCSA sections 22a-174-20(b)(1) through 22a-174-20(b)(16), and the revised RCSA section 22a-174-20(ee) into the Connecticut SIP.

In addition, Connecticut's September 2015 SIP submittal includes revised RCSA 22a-174-32(b), relating to the applicability of Reasonably Available Control Technology (RACT) requirements for volatile organic compounds. EPA initially approved Connecticut's RCSA section 22a-174-32 on March 10, 1999 (see 64 FR 12024) and subsequently approved revisions to this rule, with the most recently approved revisions to RCSA section 22a-174-32 on October 24, 2005 (see 70 FR 61384). The amended subsection 22a-174-32(b)(3)(E)(ii) was revised to appropriately cite the newly adopted RCSA section 22a-174-30a where reference was previously made to, the now repealed, RCSA section 22a-174-30. Therefore, EPA is proposing to approve revised RCSA section 22a-174-32(b) into the Connecticut SIP.

IV. Proposed Action

EPA is proposing to approve Connecticut's September 14, 2015 SIP revision. Specifically, EPA is proposing to approve, and incorporate into the Connecticut SIP, the following regulations and statute: Newly adopted RCSA section 22a-174-30a; revised RCSA subsection 22a-174-20(a); revised RCSA subsections 22a-174-20(b)(1) through (b)(16); revised RCSA subsection 22a-174-20(ee), and revised RCSA subsection 22a-174-32(b); as well as Public Act No. 13-120. EPA is also proposing to approve Connecticut's request to withdraw RCSA section 22a-174-30 from the Connecticut SIP because, as described earlier, it has been replaced with RCSA section 22a-174-30a, which is more stringent. EPA is proposing to approve this SIP revision because it meets all applicable requirements of the CAA and EPA guidance, and it will not interfere with any applicable requirement concerning attainment or reasonable further progress towards attainment of any NAAQS, or with any other applicable requirement of the Clean Air Act.

Connecticut's September 14, 2015 SIP revision also satisfies the “comparable measures” requirement of CAA section 184(b)(2), because as stated in EPA's Guidance Document, “the comparable measures requirement is satisfied if phasing out a Stage II control program in a particular area is estimated to have no, or a de minimis, incremental loss of area-wide emissions control.” As noted above, Connecticut's SIP revision meets, and as of the year 2015 goes beyond, the de minimis criteria outlined in EPA's Guidance Document. In addition, since the resulting temporary emissions increase from the removal of Stage II controls prior to the year 2015 were de minimis, the anti-back sliding requirements of CAA section 110(l) have also been satisfied. As noted in Connecticut's September 14, 2015 submission, these revisions to Connecticut's SIP are approvable under CAA section 110(l) because any VOC emissions increase that may have occurred in 2013 or 2014 were too small to interfere with attainment and reasonable further progress towards attainment of the ozone NAAQS. Connecticut's submission also stated, and demonstrated, that continuing a Stage II vapor recovery program from 2015 and beyond would have resulted in an increase in refueling emissions due to incompatibility excess emissions. Preventing an increase in refueling emissions is consistent with the non-interference requirements of the CAA in section 110(l).

EPA is soliciting public comments on the issues discussed in this notice or on other relevant matters. These comments will be considered before taking final action. Interested parties may participate in the Federal rulemaking procedure by submitting written comments to this proposed rule by following the instructions listed in the ADDRESSES section of this Federal Register.

V. Incorporation by Reference

In this rule, the EPA is proposing to include in a final EPA rule regulatory text that includes incorporation by reference. In accordance with requirements of 1 CFR 51.5, the EPA is proposing to incorporate by reference Connecticut's regulations and statute cited in Section IV. of this proposed rulemaking. The EPA has made, and will continue to make, these documents generally available electronically through http://www.regulations.gov and at the appropriate EPA.

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: March 16, 2017.
Deborah A. Szaro,
Acting Regional Administrator, EPA New England.

[FR Doc. 2017-07147 Filed 4-7-17; 8:45 am]

BILLING CODE 6560-50-P